SURFACE TRANSPORTATION BOARD

[Docket No. FD 36552]

Port Manatee Railroad LLC—Operation Exemption—Manatee County Port Authority

Port Manatee Railroad LLC (PMR), a noncarrier, has filed a verified notice of exemption pursuant to 49 CFR 1150.31 to operate on behalf of the Manatee County Port Authority (the Port) approximately seven miles of rail line ¹ within the Port of Manatee, in Manatee County, Fla. (the Line).

¹ PMR states that there are no mileposts on the Line and that the Line begins where it meets the CSXT Transportation, Inc., line and includes all rail lines within the Port of Manatee.

This transaction is related to a concurrently filed verified notice of exemption in 3i RR Holdings GP LLC—Continuance in Control Exemption—Port Manatee Railroad, Docket No. FD 36553, in which 3i RR Holdings GP LLC, 3i Holdings Partnership L.P., 3i RR Intermediate Holdings LLC, 3i RR LLC, Regional Rail Holdings, LLC, and Regional Rail, LLC ² seek to continue in control of PMR upon PMR's becoming a Class III rail carrier.

² The verified notice states that PMR is a newly created railroad subsidiary of Regional Rail, LLC.

According to the verified notice, the Port currently owns and operates the property as a Class III railroad. PMR states that it has entered into an agreement with the Port to replace the Port as the operator of the Line on December 1, 2021.

PMR certifies that its projected annual revenue will not exceed $5 million and that the proposed transaction will not result in PMR's becoming a Class I or II rail carrier. PMR states that the proposed transaction does not involve an interchange commitment.

The earliest this transaction may be consummated is November 28, 2021, the effective date of the exemption (30 days after the verified notice was filed).

If the verified notice contains false or misleading information, the exemption is void ab initio. Petitions to revoke the exemption under 49 U.S.C. 10502(d) may be filed at any time. The filing of a petition to revoke will not automatically stay the effectiveness of the exemption. Petitions for stay must be filed no later than November 19, 2021.

All pleadings, referring to Docket No. FD 36552, should be filed with the Surface Transportation Board via e-filing on the Board's website. In addition, a copy of each pleading must be served on PMR's representative, Louis E. Gitomer, Law Offices of Louis E. Gitomer, LLC, 600 Baltimore Avenue, Suite 301, Towson, MD 21204.

According to PMR, this action is categorically excluded from environmental review under 49 CFR 1105.6(c) and from historic preservation reporting requirements under 49 CFR 1105.8(b).

Board decisions and notices are available at www.stb.gov.

Decided: November 5, 2021.
By the Board, Scott M. Zimmerman, Acting Director, Office of Proceedings.
Tammy Lowery,
Clearance Clerk.

[FR Doc. 2021-24695 Filed 11-10-21; 8:45 am]

BILLING CODE 4915-01-P